SECURITIES AND EXCHANGE COMMISSION

[Release No. PA-34; File No. S7-02-06]

Privacy Act of 1974: Establishment of a New System of Records: Visitor Badge and Employee Day Pass System (SEC-52)

AGENCY: Securities and Exchange Commission.

ACTION: Notice of the establishment of a new system of records.

SUMMARY: In accordance with the requirements of the Privacy Act of 1974, as amended, 5 U.S.C. 552a, the Securities and Exchange Commission gives notice of a proposed Privacy Act system of records: “Visitor Badge and Employee Day Pass System (SEC-52).” This system of records will contain, among other things, records of Commission visitors, employee day pass information and records related to the status of trackable (special handling) mail.

DATES: The new system will become effective March 6, 2006 unless further notice is given. The Commission will publish a new notice if the effective date is delayed to review comments or if changes are made based on comment received. To be assured of consideration, comments should be received on or before February 23, 2006.

ADDRESSES: Comments may be submitted by any of the following methods:

Electronic Comments

• Use the Commission's Internet comment form (http://www.sec.gov/rules/other.shtml); or

• Send an e-mail to rule-comments@sec.gov. Please include File Number S7-02-06 on the subject line.

Paper Comments

• Send paper comments in triplicate to Nancy M. Morris, Secretary, U.S. Securities and Exchange Commission, 100 F Street, NE., Washington, DC 20549-9303.

All submissions should refer to File Number S7-02-06. This file number should be included on the subject line if e-mail is used. To help us process and review your comments more efficiently, please use only one method. The Commission will post all comments on the Commission's Internet Web site (http://www.sec.gov/rules/other.shtml). Comments are also available for public inspection and copying in the Commission's Public Reference Room, 100 F Street, NE., Washington, DC 20549. All comments received will be posted without change; we do not edit personal identifying information from submissions. You should submit only information that you wish to make available publicly.

FOR FURTHER INFORMATION CONTACT: Barbara A. Stance, Chief Privacy Officer, U.S. Securities and Exchange Commission, Operations Center, 6432 General Green Way, Alexandria, VA 22312-2413, (202) 551-7209.

SUPPLEMENTARY INFORMATION: The Commission gives notice of the proposed establishment of a new system of records, entitled “Visitor Badge and Employee Day Pass System (SEC-52).” The new system will contain records of Commission visitors, employee day pass information and records related to the status of trackable (special handling) mail.

The Commission has submitted a report of the new system of records to the Senate Committee on Homeland Security and Governmental Affairs, the House Committee on Government Reform, and the Office of Management and Budget, pursuant to 5 U.S.C. 552a(r) of the Privacy Act of 1974, as amended, and Appendix I to OMB Circular A-130, “Federal Agency Responsibilities for Maintaining Records About Individuals,” as amended on February 20, 1996 (61 FR 6435).

Accordingly, the Commission is adding a new system of records to read as follows:

SEC-52

SYSTEM NAME:

Visitor Badge and Employee Day Pass System.

SYSTEM LOCATION:

U.S. Securities and Exchange Commission, 100 F Street, NE., Washington, DC 20549.

CATEGORIES OF INDIVIDUALS COVERED BY THE SYSTEM:

Visitors from the public, other Federal agencies, Commission employees who require a Day Pass and Commission employees who pre-register or authorize visitors. The system also covers individuals or organizations that send and/or deliver trackable mail to the Commission (e.g., express mail, courier mail, or other forms of mail that is tracked from the sender to the recipient).

CATEGORIES OF RECORDS IN THE SYSTEM:

Records may include name, photograph, signature, company name, the number of the printed badge issued for each visit, visitor category, business phone number, fax number, address, e-mail address, Web site if available, other information from scanned business cards, and the location, date, and time of entry to the secure Commission facility. Records will also include the following information from scanned driver's licenses: Date of birth, weight, height, color of hair and eyes, date of expiration, and issuing jurisdiction (license numbers will not be saved in the system). Further information contained within the system will be the name and title of the person being visited, the reason for the visit to the facility, notation of approved parking, and the name, phone number and e-mail address of Commission personnel requesting authorization for the visitor access. The system will maintain check in and check out times, current status of visitor, and a custom ID number assigned sequentially by the system software for each visitor record. The software system and data base has a module for tracking packages as well. Records include package check in time, quantity of packages, name of employee to whom the package is addressed, location of package, sender's name, type of package, added description (if appropriate), carrier/agent delivering the package, time and name of person to whom package is delivered (final destination within the Commission), and a custom ID number assigned sequentially by the system software for each visitor record.

AUTHORITY FOR MAINTENANCE OF THE SYSTEM:

5 U.S.C. 301 and Executive Order 13231 of October 16, 2001 on Critical Infrastructure Protection.

PURPOSE(S):

This system was primarily designed to permit access to Commission facilities by public visitors and representatives from other Federal agencies. It is also used to issue day passes for Commission staff members or contract employees who are not presently in possession of their ID and need to enter the workplace to perform their duties. The system is further used to record and monitor the status of trackable (special handling) mail.

ROUTINE USES OF RECORDS MAINTAINED IN THE SYSTEM, INCLUDING CATEGORIES OF USERS AND THE PURPOSE OF SUCH USES:

These records and information contained in these records may be disclosed as follows:

(1) To the appropriate Federal, State or local agency responsible for investigating, prosecuting, enforcing, or implementing a statute, rule, regulation, or order, where the Commission or other appropriate Federal, State or local agency may be aware of an indication of an actual or potential health, safety or national security concern or a violation or potential violation of civil or criminal law or regulation;

(2) To another Federal agency, in connection with a court proceeding when the Government is party to a proceeding before the court or to an adjudicative tribunal when the Government is appearing in a proceeding before that tribunal;

(3) To a Federal, State, or local agency, in response to its requests, in connection with the hiring or retention of an employee, the issuance of a security clearance, or the conducting of a security or background investigation of an individual, to the extent that the information is relevant and necessary to the requesting agency;

(4) To the Office of the Inspector General for investigating allegations of abuse or misconduct, or to perform other functions within the jurisdiction of the Office of the Inspector General; and

(5) To the Commission Security Branch and/or the Office of the Inspector General in routine and ad hoc reports to review visitor and day pass activity and to assess compliance with established security procedures and policies.

POLICIES AND PRACTICES FOR STORING, RETRIEVING, ACCESSING, RETAINING, AND DISPOSING OF RECORDS IN THE SYSTEM:

STORAGE:

Records are maintained in a computerized database and on paper. Paper documents are kept in filing cabinets in secured facilities.

RETRIEVABILITY:

By use of a database, records may be retrieved by the individual's name, date of visit and/or badge number (as printed in the form of a bar code on the badge).

SAFEGUARDS:

Records are safeguarded by restricted computer passwords, locked file cabinets, and safes.

RETENTION AND DISPOSAL:

Records are maintained in a computerized database and on paper. Printed badges, and returned passes (and corresponding electronic records) are destroyed three months after expiration, revocation, or return to issuing office, as provided in the National Archives and Records Administration's General Records Schedule No. 11, Item 4.

SYSTEM MANAGER(S) AND ADDRESS:

Chief of Security Branch, Office of Administrative Services, Security Branch, U.S. Securities and Exchange Commission, 100 F Street, NE., Washington, DC 20549-1627.

NOTIFICATION PROCEDURE:

All requests to determine whether this system of records contains a record pertaining to the requesting individual may be directed to the Privacy Act Officer, U.S. Securities and Exchange Commission, Operations Center, 6432 General Green Way, Mail Stop 0-7, Alexandria, VA 22312-2413.

RECORD ACCESS PROCEDURES:

Persons wishing to obtain information on the procedures for gaining access to or contesting the contents of this record may contact the Privacy Act Officer, U.S. Securities and Exchange Commission, Operations Center, 6432 General Green Way, Mail Stop 0-7, Alexandria, VA 22312-2413.

CONTESTING RECORDS PROCEDURES:

See record access procedures above.

RECORD SOURCE CATEGORIES:

Information is provided by the visitor seeking access to Commission facilities to meet with Commission employees or contractors, by Commission employees who pre-register visitors, and by Commission employees or badged contractors who do not have their ID and yet seek access to their workplace for official business. Additionally, information is provided by individuals sending trackable (special handling) mail. Information is further provided by carriers and/or agents that deliver such mail. Persons who decline to provide the requested information will be denied access.

EXEMPTIONS CLAIMED FOR THE SYSTEM:

None.

Date: January 18, 2006.
By the Commission.
Jill M. Peterson,
Assistant Secretary.

[FR Doc. E6-805 Filed 1-23-06; 8:45 am]

BILLING CODE 8010-01-P